DEPARTMENT OF HOUSING AND URBAN DEVELOPMENT

[Docket No. FR-4579-FA-18]

Announcement of Funding Award—FY 2001; Lead-Based Paint Hazard Control; City of Cincinnati

AGENCY: Office of the Secretary—Office of Healthy Homes and Lead Hazard Control, HUD.

ACTION: Announcement of funding award.

SUMMARY: In accordance with section 102(a)(4)(C) of the Department of Housing and Urban Development Reform Act of 1989, this announcement notifies the public of a funding decision made by the Department to the City of Cincinnati. This announcement contains the name and address of the awardee and the amount of the award.

FOR FURTHER INFORMATION CONTACT: David Levitt, Department of Housing and Urban Development, 451 Seventh Street, SW., Washington, DC 20410, telephone (202) 755-1785, ext. 156. Hearing—or speech-impaired individuals may access this number by calling the Federal Information Relay Service TTY at 1-800-877-8339.

SUPPLEMENTARY INFORMATION: The Lead-Based Paint Hazard Control grant for the City of Cincinnati was issued pursuant to Public Law 102-550, Title X, Residential Lead-Based Paint Hazard Reduction Act of 1992.

This notice announces the award of $399,676.00 to the City of Cincinnati, which will be used to conduct research and education to protect children from being lead poisoned.

The Catalog of Federal Domestic Assistance number for this program is 14,900.

In accordance with section 102(a)(4)(C) of the Department of Housing and Urban Development Reform Act of 1989 (103 Stat. 1987, 42 U.S.C. 3545), the Department is publishing the name, address, and amount of the award as follows:

City of Cincinnati, Office of Environmental Management, 805 Central Avenue—Suite 605, Cincinnati, OH 45202-1994.

Total Amount of Grant: $399,676.

Dated: September 16, 2002.
David E. Jacobs,
Director, Office of Health Homes and Lead Hazard Control.

[FR Doc. 02-26771 Filed 10-21-02; 8:45 am]

BILLING CODE 4210-70-M